ENVIRONMENTAL PROTECTION AGENCY

[FRL-7209-1]

Investigator Initiated Grants: Request for Applications

AGENCY: U.S. Environmental Protection Agency.

ACTION: Notice of requests for applications.

SUMMARY: This notice provides information on the availability of fiscal year 2002 investigator initiated grants program announcements, in which the areas of research interest, eligibility and submission requirements, evaluation criteria, and implementation schedules are set forth. Grants will be competitively awarded following peer review.

DATES: Receipt dates vary depending on the specific research areas within the solicitations.

SUPPLEMENTARY INFORMATION: In its Requests for Applications (RFA) the U.S. Environmental Protection Agency invites research applications in the following areas of special interest to its mission: (1) Assessing the Consequences of Global Change for Air Quality: Sensitivity of U.S. Air Quality to Climate Change and Future Global Impacts; (2) Ecological Indicators for the Great Rivers of the Central Basin; (3) Corporate Environmental Behavior: Examining the Effectiveness of Government Interventions and Voluntary Incentives; and (4) Market Mechanisms and Incentives for Environmental Management.

Contacts: (1) Assessing the Consequences of Global Change for Air Quality: Sensitivity of U.S. Air Quality to Climate Change and Future Global Impacts, Turner.Vivian@epa.gov; (2) Ecological Indicators for the Great Rivers of the Central Basin, Levinson.Barbara@epa.gov; (3) Corporate Environmental Behavior: Examining the Effectiveness of Government Interventions and Voluntary Incentives, Carrillo.Susan@epa.gov; and (4) Market Mechanisms and Incentives for Environmental Management, Clark.Matthew@epa.gov.

FOR FURTHER INFORMATION CONTACT: The complete program announcement can be accessed on the Internet at http://www.epa.gov/ncer, under “announcements.” The required forms for applications with instructions are accessible on the Internet at http://es.epa.gov/ncer/rfa/forms/downlf.html. Forms may be printed from this site.

Dated: April 30, 2002.
Peter W. Preuss,
Director, National Center for Environmental Research.

[FR Doc. 02-11452 Filed 5-7-02; 8:45 am]

BILLING CODE 6560-50-P